DEPARTMENT OF VETERANS AFFAIRS

Veterans' Advisory Committee on Rehabilitation, Notice of Meeting

The Department of Veterans Affairs (VA) gives notice under the Federal Advisory Committee Act, 5 U.S.C. App.2, that the Veterans' Advisory Committee on Rehabilitation (VACOR) will meet virtually, April 7 and April 8, 2021 from 11:00 a.m. to 3:30 p.m. EST on both days. The virtual meeting sessions are open to the public.

The purpose of the Committee is to provide advice to the Secretary of VA on the rehabilitation needs of Veterans with disabilities and on the administration of VA's Veteran rehabilitation programs. The Committee members will receive briefings on employment programs and services designed to enhance the delivery of services for the rehabilitation potential of Veterans and discuss potential recommendations.

Time will be allocated for receiving oral comments from the public. Members of the public may submit written comments for review by the Committee to Latrese Thompson, Designated Federal Officer, Veterans Benefits Administration (28), 810 Vermont Avenue NW, Washington, DC 20420 or at Latrese.Thompson@va.gov. In the communication, writers must identify themselves and state the organization, association or person(s) they represent. For any members of the public that wish to attend virtually, use WebEx link: https://veteransaffairs.webex.com/veteransaffairs/j.php?MTID=mc749ec488dff6c76c3591ada8b671b1a.

Meeting number (access code): 199 194 0465.

Meeting password: CmdYRWM?737.

+14043971596,1991940465## USA Toll Number.

Dated: March 17, 2021.
LaTonya L. Small,
Federal Advisory Committee Management Officer.

[FR Doc. 2021-05895 Filed 3-19-21; 8:45 am]

BILLING CODE P